ENVIRONMENTAL PROTECTION AGENCY

[OEI-10010; FRL 6723-3]

Office of Environmental Information; Draft Data Standard for Exchange of Environmental Permitting Information and Draft Data Standard for Exchange of Enforcement and Compliance Information

AGENCY: Environmental Protection Agency.

ACTION: Notice of information availability and request for comments.

SUMMARY: Notice of availability is hereby given for a 45-day public comment period on two draft data standards: Permitting Data Standard, and, Enforcement and Compliance Data Standard. These draft standards consist of a list of data elements, definitions for these elements, notes and explanatory preamble language. The draft standards were developed by the partnership efforts of States, Indian Tribes and the Environmental Protection Agency (EPA) participating in the Environmental Data Standards Council (EDSC). The EDSC convened Action Teams consisting of representatives from EPA, States and Tribes to develop these core sets of data elements to facilitate the sharing of information regarding environmental permitting and enforcement and compliance activities. The EPA and the EDSC invite comment on these standards from States, EPA and Tribes and database managers in the public and private sectors and the general public with interest in development and use of environmental program permitting and enforcement and compliance data.

DATES: Comments must be submitted on or before November 19, 2001.

ADDRESSES: Electronic Access and Filing of Comments—You may view and download the draft data standards and related explanatory material at the EDSC Website at: http://www.epa.gov/edsc/ in the area of the site marked “Announcements”. The draft data standards can also be viewed and downloaded at the EPA Environmental Data Registry (EDR) at http://www.epa.gov/edr/ in the area of the site marked “Data Standards”. Or for those with password access, at the WISER portion of the State/EPA Website at: http://www.sso.org/ecos/wiser/

You may submit comments via electronic mail (e-mail) to William Sonntag (sonntag.william@epa.gov) as a WordPerfect or Word file avoiding the use of special characters and any form of encryption. Comments may also be mailed to: OEI Docket; USEPA, 401 M. Street SW Washington, DC. 20460, Docket Number: OEI-10010:FRL 6723-3. If you require a paper copy be sent to you, you must contact the OEI Docket; USEPA, 401 M. Street, SW, Washington, DC. 20460, Docket Number: OEI-10010:FRL 6723-3.

FOR FURTHER INFORMATION CONTACT: For additional information concerning today's Notice you may contact: William A. Sonntag, Office of Environmental Information, Office of Information Collection, MC-2822, U.S. Environmental Protection Agency, 1200 Pennsylvania Avenue, NW, Washington DC 20460 (202 260-0633).

SUPPLEMENTARY INFORMATION:

I. Environmental Data Standards Council (EDSC) Background

Data sharing has become an increasingly important aspect of sound environmental management. States, Tribes and the Environmental Protection Agency (EPA) together face the critical challenge of sharing information among themselves and with their respective stakeholders and public. Fundamental to the seamless exchange of data are data standards. Data standards help improve the ability of partners (internal and external) to exchange data efficiently and accurately and also assist secondary users of data to understand, interpret, and use data appropriately. Recognition of the need for EPA, States and Tribes to develop and agree upon data standards for environmental information sharing has lead to the creation of the Environmental Data Standards Council (EDSC). Data standards are documented agreements on formats and definitions of data elements. Standards will be developed only when there is an environmental management business reason.

The EDSC's mission is to promote the efficient sharing of environmental information between EPA, States, Tribes and other parties through the development of data standards. The EDSC identified permitting, and enforcement and compliance as areas of information for which having standards will create value to all interested parties. An Action Team deliberation process bringing together State, EPA and Tribal parties began in August 2000 for these two standards areas. Draft standards were delivered to the EDSC for consideration in June 2001 and approved for initiation of this 45-day public comment period in September 2001.

After the comment period announced in this Notice, the EDSC and its Action Teams will review comments received and make appropriate modifications. The EDSC will then consider and approve of these data standards as appropriate. EDSC approval does not bind an individual agency to using a standard. It will be up to the individual agency to determine if, when, and how it might use a standard developed under the auspices of the EDSC. It will be the intent of EPA to adopt and implement the consistent use of EDSC-approved standards in its information systems and programs.

II. Enforcement & Compliance Draft Data Standard Background

The Environmental Data Standards Council (EDSC) chartered the Enforcement and Compliance Data Standard Action Team to identify and define the major areas of enforcement and compliance information, and to develop a data standard that could be used for the exchange of data among environmental agencies and other entities. The purpose of the standard is to provide a common vocabulary or lexicon, so that information about functionally similar activities and/or instruments can be shared. The proposed standard focuses on core information common across most program areas. The draft standard is not intended to constrain what information an agency chooses to collect, nor does it constitute a reporting requirement. It merely defines a standardized way to organize and exchange key information if agencies choose to exchange that information.

The draft Enforcement/Compliance Data Standard, contains (1) the enforcement data element matrix, (2) the compliance assistance data element matrix, and (3) commonly used enforcement and compliance terminology. It is important to note that the compliance assistance data element matrix is presented as separate and distinct from the enforcement data element matrix/standard. The compliance assistance data element matrix deals with an area of information that is not currently, routinely exchanged. It does not have a basis in long established practice and program to program data exchange. It is included for comment in the Notice as a way to receive State and other data exchange partner reaction to its form and impact on systems as an area of potential new data exchange. Please see the additional discussion of this matter found in the materials at the websites referenced above.

III. Permitting Data Standard

The EDSC chartered the Permitting Data Standard Action Team to identify and define the major areas of permitting information and to develop a data standard that could be used for the exchange of permitting data among environmental agencies and other entities The proposed Permit Data Standard is not intended to be a system design or to cover every detail of permitting data that are currently exchanged or managed; instead, it focuses on core information common across most program areas and organizations. The draft standard is not intended to constrain what information an agency chooses to collect, nor does it constitute a reporting requirement. It merely defines a standardized way to organize and exchange key information if agencies choose to exchange that information.

This standard is designed to provide simple, high-level information that includes core data sufficient to identify a permit, as well as some information on administrative status and history, that is common across most organizations and programs. The standard does not contain more detailed information that is program specific. Standardization of this program specific data should be accomplished via the development of program-specific standards (consistent with this overall standard) and/or the development of Data Exchange Templates between information exchange partners. A “permit” is a permit, authorization, license, or equivalent used to implement the requirements of an environmental regulation. A permit is issued to an individual or organization and typically specifies pollutant discharge limits or operating procedures.

III. Review of Draft Standards To Date

These draft standards have received significant input through the representatives from EPA program, States and Tribal organizations serving on the development Action Teams. In addition, the preliminary versions of the draft standards have been reviewed by State and EPA programs managers in May and June 2001. EDSC members have also reviewed and recommended these draft standards for this public comment process.

Dated: September 28, 2001.
Mark Luttner,
Director, Office of Information Collection, Office of Environmental Information.

[FR Doc. 01-24907 Filed 10-3-01; 8:45 am]

BILLING CODE 6560-50-P